DEPARTMENT OF JUSTICE

National Institute of Justice

[OMB Number 1121-NEW]

Agency Information Collection Activities: Proposed Collection; Comments Requested: Survey of the Interoperability of Automated Fingerprint Identification Systems Regarding Latent Fingerprint Exchange

ACTION: 30-Day Notice of Information Collection Under Review.

The Department of Justice (DOJ), National Institute of Justice (NIJ), will be submitting the following information collection request to the Office of Management and Budget (OMB) for review and approval in accordance with the Paperwork Reduction Act of 1995. The proposed information collection is published to obtain comments from the public and affected agencies. This proposed information collection was previously published in the Federal Register Volume 76, Number 148, Page 46328, on August 2, 2011, allowing for a 60 day comment period.

The purpose of this notice is to allow for an additional 30 days for public comment until November 17, 2011. This process is conducted in accordance with 5 CFR 1320.10. Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Mark E. Greene at 202-307-3384 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Establishment survey and initial approval of collection.

(2) Title of Form/Collection: Latent Fingerprint Interoperability Survey.

(3) Agency form number, if any, and the applicable component of the Department of Justice sponsoring the collection: Form Number: none. National Institute of Justice, Office of Justice Programs, Department of Justice.

(4) Affected public who will be asked or required to respond, as well as a brief abstract: Primary: State and Local law enforcement agencies with Automated Fingerprint Identification Systems (AFIS). The proposed collection is the only effort that provides an ability to establish the level of interoperability of automated fingerprint identification systems maintained by State and Local law enforcement agencies regarding the electronic exchange of latent fingerprints to support criminal investigations. This collection will enable NIJ; Federal, State, Local, and Tribal law enforcement and government administrators; legislators; and researchers; to understand the technology and policy barriers to local, regional, and national interoperability from the perspective of State and Local criminal investigations requiring the exchange of latent fingerprints across jurisdictional boundaries. Information collected in the core survey and survey addenda will provide critical data on the types and functionalities of fielded AFIS systems in State and Local agencies; the current policy agreements among jurisdictions to permit the sharing, exchange, and searching of latent fingerprints electronically; and the technology-related and policy-related impediments regarding the electronic sharing, exchange, and searching of latent fingerprints across various jurisdictions at the State and Local levels.

(5) An estimate of the total number of respondents and the amount of time estimated for an average respondent to respond: It is estimated that 350 to 400 respondents will complete the core survey and one of two relevant addenda depending on whether the respondent is from a State or Local agency in approximately 60 minutes.

(6) An estimate of the total public burden (in hours) associated with the collection: There are an estimated 21,000 to 24,000 total burden hours associated with this collection.

If additional information is required contact: Jerri Murray, Department Clearance Officer, United States Department of Justice, Justice Management Division, Policy and Planning Staff, Two Constitution Square, 145 N Street, NE., Room 2E-508, Washington, DC 20530.

Jerri Murray,
Department Clearance Officer, PRA, U.S. Department of Justice.

[FR Doc. 2011-26876 Filed 10-17-11; 8:45 am]

BILLING CODE 4410-18-P